DEPARTMENT OF LABOR

Employment and Training Administration

[TA-W-40,523]

Parallax Power Components LLC, MagneTek, Inc., Goodland, Indiana; Amended Certification Regarding Eligibility To Apply for Worker Adjustment Assistance

In accordance with section 223 of the Trade Act of 1974 (19 USC 2273) the Department of Labor issued a Certification of Eligibility to Apply for Worker Adjustment Assistance on January 23, 2002, applicable to workers of Parallax Power Components LLC, Goodland, Indiana. The notice was published in the Federal Register on February 5, 2002 (67 FR 5294).

At the request of the company, the Department reviewed the certification for workers of the subject firm. The workers are engaged in the production of transformers. New information shows that Parallax Power Components purchased the Goodland, Indiana location of MagneTek, Inc. on June 29, 2001.

Information also shows that some workers separated from employment at the subject firm had their wages reported under a separate unemployment insurance (UI) tax account for Parallax Power Components LLC, MagneTek, Inc.

Accordingly, the Department is amending the certification to properly reflect this matter.

The intent of the Department's certification is to include all workers of Parallax Power Components LLC, Goodland, Indiana who were adversely affected by increased imports.

The amended notice applicable to TA-W-40,523 is hereby issued as follows:

“All workers of Parallax Power Components LLC, MagneTek, Inc., Goodland, Indiana who became totally or partially separated from employment on or after December 17, 2000, through January 23, 2004, are eligible to apply for adjustment assistance under Section 223 of the Trade Act of 1974.”

Signed at Washington, DC this 6th day of March, 2002.
Linda G. Poole,
Certifying Officer, Division of Trade Adjustment Assistance.

[FR Doc. 02-6667 Filed 3-19-02; 8:45 am]

BILLING CODE 4510-30-M